THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Lisette Voyatzis, Attorney-Advisor, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. Date: February 4, 2010.

Time: 8:30 a.m. to 5 p.m.

Room: 315.

Program: This meeting will review applications for American, British, and Anglophone Literature in Scholarly Editions, submitted to the Division of Research Programs at the October 29, 2009 deadline.

2. Date: February 8, 2010.

Time: 8:30 a.m. to 5 p.m.

Room: 315.

Program: This meeting will review applications for Archaeology: Old World/Ancient History in Collaborative Research, submitted to the Division of Research Programs at the October 29, 2009 deadline.

3. Date: February 9, 2010.

Time: 8:30 a.m. to 5 p.m.

Room: 315.

Program: This meeting will review applications for Archaeology: New World in Collaborative Research, submitted to the Division of Research Programs at the October 29, 2009 deadline.

4. Date: February 10, 2010.

Time: 8:30 a.m. to 5 p.m.

Room: 315.

Program: This meeting will review applications for History of Science/Religion/Philosophy in Collaborative Research, submitted to the Division of Research Programs at the October 29, 2009 deadline.

5. Date: February 11, 2010.

Time: 8:30 a.m. to 5 p.m.

Room: 315.

Program: This meeting will review applications for Philosophy and Religion in Scholarly Editions, submitted to the Division of Research Programs at the October 29, 2009 deadline.

6. Date: February 12, 2010.

Time: 8:30 a.m. to 5 p.m.

Room: 315.

Program: This meeting will review applications for Literature and the Arts in Collaborative Research, submitted to the Division of Research Programs at the October 29, 2009 deadline.

7. Date: February 16, 2010.

Time: 8:30 a.m. to 5 p.m.

Room: 315.

Program: This meeting will review applications for Literature, History, and the Arts in Scholarly Editions, submitted to the Division of Research Programs at the October 29, 2009 deadline.

8. Date: February 17, 2010.

Time: 8:30 a.m. to 5 p.m.

Room: 315.

Program: This meeting will review applications for American Studies in Collaborative Research, submitted to the Division of Research Programs at the October 29, 2009 deadline.

9. Date: February 18, 2010.

Time: 8:30 a.m. to 5 p.m.

Room: 315.

Program: This meeting will review applications for American History/American Studies in Scholarly Editions, submitted to the Division of Research Programs at the October 29, 2009 deadline.

10. Date: February 22, 2010.

Time: 8:30 a.m. to 5 p.m.

Room: 315.

Program: This meeting will review applications for Political Science/Anthropology/Jurisprudence in Collaborative Research, submitted to the Division of Research Programs at the October 29, 2009 deadline.

11. Date: February 23, 2010.

Time: 8:30 a.m. to 5 p.m.

Room: 315.

Program: This meeting will review applications for Archaeology: Old World/Asian Studies/Middle Eastern Studies in Collaborative Research, submitted to the Division of Research Programs at the October 29, 2009 deadline.

Lisette Voyatzis,
Attorney-Advisor.

[FR Doc. 2010-1100 Filed 1-20-10; 8:45 am]

BILLING CODE 7536-01-P